DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 20, 2007.

Interested persons are invited to submit written comments regarding the subject matter of the investigations to the Director, Division of Trade Adjustment Assistance, at the address shown below, not later than July 2, 2007.

The petitions filed in this case are available for inspection at the Office of the Director, Division of Trade Adjustment Assistance, Employment and Training Administration, U.S. Department of Labor, Room C-5311, 200 Constitution Avenue, NW., Washington, DC 20210.

Signed at Washington, DC, this 12th day of June 2007.
Ralph Dibattista,
Director,Division of Trade Adjustment Assistance.

Appendix—TAA
[Petitions instituted between 6/4/07 and 6/8/07]
TA-W | Subject firm (petitioners) | Location | Date of institution | Date of petition
61612 | FCI USA Inc. (Comp) | Westland, MI | 06/04/07 | 05/30/07
61613 | Premier Manufacturing Support Services Inc. (AFLCIO) | Spring Hill, TN | 06/04/07 | 06/01/07
61614 | Penske Logistics, LLC (AFLCIO) | Spring Hill, TN | 06/04/07 | 06/01/07
61615 | American Food and Vending (AFLCIO) | Spring Hill, TN | 06/04/07 | 06/01/07
61616 | TDS Automotive Logistics (AFLCIO) | Mt. Pleasant, TN | 06/04/07 | 06/01/07
61617 | Ryder Integrated Logistics, Inc. (AFLCIO) | Spring Hill, TN | 06/04/07 | 06/01/07
61618 | Intier Seating Systems (AFLCIO) | Lewisberg, TN | 06/04/07 | 06/01/07
61619 | Amkor Technology (Comp) | Morrisville, NC | 06/05/07 | 06/04/07
61620 | EGS Easy Heat (Wkrs) | New Carlisle, TN | 06/05/07 | 06/04/07
61621 | DeRoyal Textiles (Comp) | Camden, SC | 06/05/07 | 06/04/07
61622 | ADP Leo Wolleman Inc. (Wkrs) | New York, NY | 06/05/07 | 06/02/07
61623 | Mahle, Inc. (Wkrs) | Holland, MI | 06/05/07 | 06/04/07
61624 | Lexington Home Brand, Plant 1 (Wkrs) | Thomasville, NC | 06/06/07 | 05/24/07
61625 | Performance Machine (State) | La Palma, CA | 06/06/07 | 06/05/07
61626 | Citizens Gas & Coke Utility (Wkrs) | Indianapolis, IN | 06/06/07 | 06/05/07
61627 | Kimberly Clark Corporation (Wkrs) | Corinth, MS | 06/06/07 | 05/31/07
61628 | Walter Dimension Company (Comp) | Jamestown, TN | 06/06/07 | 06/05/07
61629 | Cooper Tools (UAW) | Dayton, OH | 06/06/07 | 05/18/07
61630 | Qwest Services Corporation (Wkrs) | Idaho Falls, ID | 06/06/07 | 06/04/07
61631 | Interconnect Technologies (Comp) | Springfield, MO | 06/06/07 | 06/01/07
61632 | Lear Idea Center (State) | Madison, MI | 06/06/07 | 05/29/07
61633 | Worldwide Apparel Resources (State) | Carteret, NJ | 06/06/07 | 06/05/07
61634 | Corsair Memory (State) | Fremont, CA | 06/06/07 | 05/30/07
61635 | Sunset Manufacturing Company (State) | Tualatin, OR | 06/06/07 | 05/31/07
61636 | Bethleon Togs, Inc. (UNITE) | Bethlehem, PA | 06/06/07 | 06/01/07
61637 | VyTech Industries, Inc. (State) | Elkhart, IN | 06/06/07 | 06/05/07
61638 | Belcher Corporation LLC (Wkrs) | So. Easton, MA | 06/06/07 | 05/25/07
61639 | Hydro aluminum (State) | Ellenville, NY | 06/06/07 | 05/30/07
61640 | Carrier Access Corporation (Comp) | Tulsa, OK | 06/07/07 | 06/05/07
61641 | Coresource (State) | Jackson, MN | 06/07/07 | 06/06/07
61642 | Hutchinson Technology (State) | Hutchinson, MN | 06/07/07 | 06/06/07
61643 | Ashley Manor, Inc. (Comp) | High Point, NC | 06/07/07 | 06/06/07
61644 | John Deere Cylinder Mfg. (State) | Coon Rapids, MN | 06/07/07 | 06/06/07
61645 | Federal Mogul Corporation (IAMAW) | Schofield, WI | 06/08/07 | 06/07/07
61646 | Gip's Manufacturing Company (Comp) | Hartwell, GA | 06/08/07 | 06/07/07
61647 | Smurfit/Stone Corporation (State) | Teterboro, NJ | 06/08/07 | 06/07/07
61648 | Energy Conversion Systems (Comp) | Kane, PA | 06/08/07 | 06/07/07
61649 | Americ Disc DDL Georgia (State) | Madison, GA | 06/08/07 | 06/07/07
61650 | Mount Vernon Mills, Inc. (Comp) | McCormick, SC | 06/08/07 | 06/07/07
61651 | Springs Global US, Inc.—Sardis Plant (Comp) | Sardis, MS | 06/08/07 | 06/07/07
61652 | Bank of America—Foreign Ex. Dept. (Wkrs) | Concord, CA | 06/08/07 | 05/07/07
61653 | Aviza Technology (State) | Scotts Valley, CA | 06/08/07 | 06/07/07
61654 | Nortel Networks (Wkrs) | Richardson, TX | 06/08/07 | 06/07/07

[FR Doc. E7-11832 Filed 6-19-07; 8:45 am]

BILLING CODE 4510-FN-P